DEPARTMENT OF THE TREASURY

Submission for OMB Review; Comment Request

April 7, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 15, 2006 to be assured of consideration.

Internal Revenue Service (IRS)

OMB Number: 1545-0064.

Type of Review: Extension.

Title: Application for Exemption from Social Security and Medicare Taxes and Waiver of Benefits.

Form: IRS Form 4029.

Description: Form 4029 is used by members of recognized religious groups to apply for exemption from social security and Medicare taxes under IRC sections 1402(g) and 3127. The information is used to approve or deny exemption from social security and Medicare taxes.

Respondents: Individuals or households.

Estimated Total Burden Hours: 3,154 hours.

OMB Number: 1545-0817.

Type of Review: Extension.

Title: EE-28-78 (Final) Inspection of Applications for Tax Exemption and Applications for Determination Letters for Pension and Other Plans.

Description: Internal Revenue Code section 6104 requires applications for tax exempt status, annual reports of private foundations, and certain portions of returns to be open for public inspection. Some information may be withheld from disclosure. IRS needs the information to comply with requests for public inspection of the above-named documents.

Respondents: Individuals or households; Business or other for-profit; Not-for-profit institutions.

Estimated Total Burden Hours: 8,538 hours.

OMB Number: 1545-1254.

Type of Review: Extension.

Title: Conclusive Presumption of Worthlessness of Debts Held by Banks (FI-34-91) (Final).

Description: Paragraph (d)(3) of section 1.166-2 of the regulations allows banks and thrifts to elect to conform their tax accounting for bad debts with their regulatory accounting. An election, or revocation thereof, is a change in method of accounting. The collection of information required in section I.166-2(d)(3) is necessary to monitor the elections.

Respondents: Business or other for-profit.

Estimated Total Burden Hours: 50 hours.

OMB Number: 1545-1809.

Type of Review: Extension.

Title: Credit for Employer-Provided Child Care Facilities and Services.

Form: IRS Form 8882.

Description: Qualified employers use Form 8882 to request a credit for employer-provided child care facilities and services. Section 45F provides credit based on costs incurred by an employer in providing childcare facilities and resource and referral services. The credit is 25% of the qualified childcare expenditures plus 10% of the qualified childcare resource and referral expenditures for the tax year, up to a maximum credit of $150,000 per tax year.

Respondents: Individuals or households; Business or other for-profit.

Estimated Total Burden Hours: 5,486,662 hours.

OMB Number: 1545-1985.

Type of Review: Extension.

Title: Interview and Intake Sheet.

Form: IRS Form 13614 SP.

Description: This Spanish version of Form 13614 is used by screeners, preparers, or others involved in the return preparation process to more accurately complete tax returns of Spanish speaking taxpayers having low to moderate incomes. These persons need assistance having their returns prepared so they can fully comply with the law.

Respondents: Individuals or households; Business or other for-profit; Not-for-profit institutions; Federal Government.

Estimated Total Burden Hours: 17,108 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-5512 Filed 4-12-06; 8:45 am]

BILLING CODE 4830-01-P